DEPARTMENT OF HEALTH AND HUMAN SERVICES

Establishment of the Office of Long COVID Research and Practice

AGENCY: Office of the Assistant Secretary for Health, Office of the Secretary, Department of Health and Human Services.

ACTION: Notice.

SUMMARY: Statement of Organization, Functions, and Delegations of Authority Part A, Office of the Secretary, Statement of Organization, Function, and Delegation of Authority for the U.S. Department of Health and Human Services (HHS) is being amended at Chapter AC, Office of the Assistant Secretary for Health (OASH), as last amended June 1, 2022. This notice establishes the Office of Long COVID Research and Practice in OASH.

SUPPLEMENTARY INFORMATION: The April 5, 2022, Presidential Memorandum (at https://www.whitehouse.gov/briefing-room/presidential-actions/2022/04/05/memorandum-on-addressing-the-long-term-effects-of-covid-19/) on Addressing the Long-term Effects of COVID-19 charged the Secretary of the Department of Health and Human Services (the Secretary) with coordinating a government-wide response to the longer-term effects of COVID-19 and associated conditions. The Secretary in turn directed the Assistant Secretary for Health to serve as the Long COVID Coordinator. The Memorandum specified development and publication of two reports. The two reports were drafted under the leadership of OASH and with the input of 14 federal agencies and published on August 3, 2022. One of the reports, the National Research Action Plan on Long COVID (at https://www.covid.gov/assets/files/National-Research-Action-Plan-on-Long-COVID-08012022.pdf), called for the establishment of the Office of Long COVID Research and Practice (the “Office,” abbreviated as OLC) given the widespread effects of Long COVID. The Office will be charged with the implementation of the National Research Action Plan on Long COVID (https://www.covid.gov/assets/files/National-Research-Action-Plan-on-Long-COVID-08012022.pdf), promotion of the Services and Supports for Longer-Term Impacts of COVID-19 (https://www.covid.gov/assets/files/Services-and-Supports-for-Longer-Term-Impacts-of-COVID-19-08012022.pdf), and coordinating the whole-of-government response to the longer-term effects of COVID-19, including Long COVID and associated conditions. Currently 14 federal departments engage on Long COVID, including over a dozen HHS Operating and Staff Divisions. The coordination by the Office will strengthen current work and identify and fill needs in areas such as clinical guidance, partner engagement, public education and communications, and services and supports.

Specifically, the changes to Part A, Chapter AC are as follows:

A. Under Part A, Chapter AC, under Office of the Assistant Secretary for Health, add the following:

1. The Office of Long COVID Research and Practice (OLC) is headed by a Director, who reports to the Assistant Secretary for Health.

2. OLC will focus on

• Leading government-wide coordination of Long COVID strategy, planning, and activities to address the consequences of the COVID-19 pandemic, integrated into the HHS mission to improve health in disadvantaged communities and vulnerable populations across the nation.

• Supporting senior leadership at OASH and HHS on Long COVID.

• Developing implementation plans on Long COVID to drive strategy and communicate to the public.

• Establish, support, and manage a Federal Advisory Committee on Long COVID and associated conditions to facilitate perspectives from outside the government to inform federal actions.

• Providing expertise and support to federal agencies related to Long COVID deliverables and activities.

Xavier Becerra,
Secretary.

[FR Doc. 2023-16251 Filed 7-31-23; 8:45 am]

BILLING CODE 4150-03-P